DEPARTMENT OF ENERGY

Agency Information Collection Extension

AGENCY: Department of Energy.

ACTION: Notice and request for comments.

SUMMARY: The Department of Energy (DOE), pursuant to the Paperwork Reduction Act of 1995 intends to extend for three years, an information collection package with the Office of Management and Budget (OMB) concerning the Human Reliability Program (HRP), OMB Control Number 1910-5122. The collections consist of forms that will certify to DOE that respondents were advised of the requirements for occupying or continuing to occupy a HRP position. The HRP is a security and safety reliability program for individuals who apply for or occupy certain positions that are critical to the national security. It requires an initial and annual supervisory review, medical assessment, management evaluation, and a DOE personnel security review of all applicants or incumbents. It is also used to ensure that employees assigned to nuclear explosive duties do not have emotional, mental, or physical conditions that could result in an accidental or unauthorized detonation of nuclear explosives.

Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

DATES: Comments regarding this proposed information collection must be received on or before May 30, 2006. If you anticipate difficulty in submitting comments within that period, contact the person listed below as soon as possible.

ADDRESSES: Written comments may be sent to: Kathy Murphy, SP-1.22 Germantown Building, U.S. Department of Energy, 1000 Independence Ave., SW., Washington, DC 20585-1290, or by fax at 301-903-6081 or by e-mail at Kathy.murphy@hq.doe.gov and to:

Sharon A. Evelin, Director, IM-11/Germantown Building, U.S. Department of Energy, 1000 Independence Ave., SW., Washington, DC 20585-1290, or by fax at 301-903-9061 or by e-mail at sharon.evelin@hq.doe.gov.

FOR FURTHER INFORMATION CONTACT: Requests for additional information or copies of the information collection instrument and instructions should be directed to Kathy Murphy at the address listed above in ADDRESSES.

SUPPLEMENTARY INFORMATION: This package contains: (1) OMB No.: 1910-5122; (2) Package Title: Human Reliability Program; (3) Type of Review: renewal; (4) Purpose: for DOE management to ensure that individuals who occupy HRP positions meet program standards of reliability and physical and mental suitability; (5) Respondents: 11,500; (6) Estimated Number of Burden Hours: 5,750.

Statutory Authority: Department of Energy Organization Act, Public Law 95-91, of August 4, 1977.

Issued in Washington, DC, on March 21, 2006.
Jeffrey D. Martus,
Acting Director, Records Management Division, Office of the Chief Information Officer.

[FR Doc. E6-4490 Filed 3-27-06; 8:45 am]

BILLING CODE 6450-01-P